DEPARTMENT OF ENERGY

Federal Energy Regulatory Commission

[Docket No. CP02-48-000]

National Fuel Gas Supply Corporation and Tennessee Gas Pipeline Company; Notice of Application

December 27, 2001.

Take notice that on December 7, 2001, National Fuel Gas Supply Corporation (National Fuel), 10 Lafayette Square, Buffalo, New York 14203 and Tennessee Gas Pipeline Company (Tennessee), 9 E. Greenway Plaza, Houston, Texas 77048, filed a joint application pursuant to Section 7 of the Natural Gas Act and Part 157 of the Commission's Rules and Regulations for a certificate of public convenience and necessity authorizing a capacity lease between National Fuel and Tennessee and to abandon service currently provided by National Fuel to Tennessee all as more fully set forth in the application which is on file with the Commission and open to public inspection. Copies of this filing are on file with the Commission and are available for public inspection. This filing may also be viewed on the web at http://www.ferc.gov using the “RIMS” link, select “Docket#” and follow the instructions (call 202-208-2222 for assistance).

Specifically, National Fuel seeks to abandon the currently certificated transportation service it provides to Tennessee under Rate Schedule X-51 between Clarence, New York and Ellisburg, Pennsylvania. Further, National Fuel seeks authority to lease capacity to Tennessee on a firm basis for a term of ten years commencing November 1, 2002. The lease will include 90,000 Dth per day of capacity from Clarence to Ellisburg and 130,000 Dth per day from Ellisburg to Leidy, Pennsylvania. This leased capacity is part of Tennessee's Can-East Project (also known as the Leidy Extension) which is designed to provide firm transportation of gas from various points on Tennessee's system for delivery to Texas Eastern Transmission Company and Transcontinental Gas Pipe Line Corporation at Leidy.

Any questions regarding the application should be directed to National Fuel Gas Supply Corporation, 10 Lafayette Square, Buffalo, New York 14203 at 716-857-7949 or by E-mail at reitzd@natfuel.com and Marguerite N. Woung-Chapman, General Counsel, Tennessee Gas Pipeline Company, 9 E. Greenway Plaza, Suite 340, Houston, Texas 77048 at 832-676-7329 or by E-mail at marguerite.woung-chapman@elpaso.com.

Any person desiring to be heard or to make any protest with reference to said application should file with the Federal Energy Regulatory Commission, Washington, D.C. 20426, a motion to intervene or a protest in accordance with the requirements of the Commission's Rules of Practice and Procedure (18 CFR 385.214 or 385.211) and the Regulations under the Natural Gas Act (18 CFR 157.10). All such motions to intervene or protests should be filed on or before January 17, 2002. All protests filed with the Commission will be considered by it in determining the appropriate action to be taken but will not serve to make the protestants parties to the proceeding. Any person wishing to become a party to a proceeding or to participate as a party in any hearing therein must file a motion to intervene in accordance with the Commission's Rules. Comments, protests and interventions may be filed electronically via the Internet in lieu of paper. See, 18 CFR 385.2001(a)(1)(iii) and the instructions on the Commission's web site under the “e-Filing” link.

Linwood A. Watson, Jr.,
Acting Secretary.

[FR Doc. 02-63 Filed 1-2-02; 8:45 am]

BILLING CODE 6717-01-P